DEPARTMENT OF HEALTH AND HUMAN SERVICES

Substance Abuse and Mental Health Services Administration

Fiscal Year (FY) 2000 Funding Opportunities

AGENCY: Substance Abuse and Mental Health Services Administration, HHS.

ACTION: Notice of funding availability.

SUMMARY: The Substance Abuse and Mental Health Services Administration (SAMHSA) Center for Mental Health Services(CMHS) announces the availability of FY 2000 funds for grants for the following activity. This activity is discussed in more detail under Section 4 of this notice. This notice is not a complete description of the activity; potential applicants must obtain a copy of Parts I and II of the Guidance for Applicants (GFA) before preparing an application. Part I is entitled Cooperative Agreements for Comprehensive Community Actions to Promote Youth Violence Prevention, Suicide Prevention and Resilience Enhancement (short title: Youth Violence Prevention Cooperative Agreements). Part II is entitled General Policies and Procedures Applicable to all SAMHSA Applications for Discretionary Grants and Cooperative Agreements.

Activity | Application deadline | Estimated funds available, FY 2000 | Estimated number of awards | Project period
Youth Violence Prevention Cooperative Agreements | 5/23/00 | $4.10 million * | 27-40 | 2 years.
* Of the $4.10 million, four grants totaling up to $600,000 will be awarded to organizations proposing programs on the prevention of youth suicide.

The actual amount available for awards and their allocation may vary, depending on unanticipated program requirements and the number and quality of applications received. FY 2000 funds for the activity discussed in this announcement were appropriated by the Congress under Public Law 106-113. SAMHSA's policies and procedures for peer review and Advisory Council review of grant and cooperative agreement applications were published in the Federal Register (Vol. 58, No. 126) on July 2, 1993.

The Public Health Service (PHS) is committed to achieving the health promotion and disease prevention objectives of Healthy People 2000, a PHS-led national activity for setting priority areas. The SAMHSA Centers' substance abuse and mental health services activities address issues related to Healthy People 2000 objectives of Mental Health and Mental Disorders; Alcohol and Other Drugs; Clinical Preventive Services; HIV Infection; and Surveillance and Data Systems. Potential applicants may obtain a copy of Healthy People 2000 (Full Report: Stock No. 017-001-00474-0) or Summary Report: Stock No. 017-001-00473-1) through the Superintendent of Documents, Government Printing Office, Washington, DC 20402-9325 (Telephone: 202-512-1800). SAMHSA has published additional notices of available funding opportunities for FY 2000 in past issues of the Federal Register.

General Instructions: Applicants must use application form PHS 5161-1 (Rev. 6/99; OMB No. 0920-0428). The application kit contains the two-part application materials (complete programmatic guidance and instructions for preparing and submitting applications), the PHS 5161-1 which includes Standard Form 424 (Face Page), and other documentation and forms. Application kits may be obtained from the organization specified for the activity covered by this notice (see Section 4).

When requesting an application kit, the applicant must specify the particular activity for which detailed information is desired. This is to ensure receipt of all necessary forms and information, including any specific program review and award criteria.

The PHS 5161-1 application form and the full text of the activity described in Section 4 are also available electronically via SAMHSA's World Wide Web Home Page (address: http://www.samhsa.gov).

Application Submission: Applications must be submitted to: SAMHSA Programs, Center for Scientific Review, National Institutes of Health, Suite 1040, 6701 Rockledge Drive MSC-7710

Bethesda, MD 20892-7710 *

(* Applicants who wish to use express mail or courier service should change the zip code to 20817.)

Application Deadlines: The deadline for receipt of applications is May 23, 2000.

Competing applications must be received by the indicated receipt date to be accepted for review. An application received after the deadline may only be accepted if it carries a legible proof-of-mailing date assigned by the carrier and that date is not later than one week prior to the deadline date. Private metered postmarks are not acceptable as proof of timely mailing.

Applications received after the deadline date and those sent to an address other than the address specified above will be returned to the applicant without review.

FOR FURTHER INFORMATION CONTACT: Requests for activity-specific technical information should be directed to the program contact person identified for the activity covered by this notice (see Section 4).

Requests for information concerning business management issues should be directed to the grants management contact person identified for the activity covered by this notice (see Section 4).

Programmatic Information

1. Program Background and Objectives

SAMHSA's mission within the Nation's health system is to improve the quality and availability of prevention, early intervention, treatment, and rehabilitation services for substance abuse and mental illnesses, including co-occurring disorders, in order to improve health and reduce illness, death, disability, and cost to society.

Reinventing government, with its emphases on redefining the role of Federal agencies and on improving customer service, has provided SAMHSA with a welcome opportunity to examine carefully its programs and activities. As a result of that process, SAMHSA moved assertively to create a renewed and strategic emphasis on using its resources to generate knowledge about ways to improve the prevention and treatment of substance abuse and mental illness and to work with State and local governments as well as providers, families, and consumers to effectively use that knowledge in everyday practice.

SAMHSA's FY 2000 Knowledge Development and Application (KD&A) agenda is the outcome of a process whereby providers, services researchers, consumers, National Advisory Council members and other interested persons participated in special meetings or responded to calls for suggestions and reactions. From this input, each SAMHSA Center developed a “menu” of suggested topics. The topics were discussed jointly and an agency agenda of critical topics was agreed to. The selection of topics depended heavily on policy importance and on the existence of adequate research and practitioner experience on which to base studies. While SAMHSA's FY 2000 KD&A program will sometimes involve the evaluation of some delivery of services, they are services studies and application activities, not merely evaluation, since they are aimed at answering policy-relevant questions and putting that knowledge to use.

SAMHSA differs from other agencies in focusing on needed information at the services delivery level, and it is question-focus. Dissemination and application are integral, major features of the programs. SAMHSA believes that it is important to get the information into the hands of the public, providers, and systems administrators as effectively as possible. Technical assistance, training, and preparation of special materials will be used, in addition to normal communication means.

SAMHSA also continues to fund legislatively-mandated services programs for which funds are appropriated.

2. Special Concerns

SAMHSA's legislatively-mandated services programs do provide funds for mental health and/or substance abuse treatment and prevention services. However, SAMHSA's KD&A activities do not provide funds for mental health and/or substance abuse treatment and prevention services except sometimes for costs required by the particular activity's study design. Applicants are required to propose true knowledge application or knowledge development application projects. Applications seeking funding for services projects under a KD&A activity will be considered nonresponsive.

Applications that are incomplete or nonresponsive to the GFA will be returned to the applicant without further consideration.

3. Criteria for Review and Funding

3.1 General Review Criteria

Review criteria that will be used by the peer review groups are specified in the application guidance material.

3.2 Funding Criteria for Scored Applications

Applications will be considered for funding on the basis of their overall technical merit as determined through the peer review group and the appropriate National Advisory Council review process. Availability of funds will also be an award criteria. Additional award criteria specific to the programmatic activity may be included in the application guidance materials.

4. Special FY 2000 SAMHSA Activities

Cooperative Agreements for Comprehensive Community Actions to Promote Youth Violence Prevention, Suicide Prevention and Resilience Enhancement (short title: Youth Violence Prevention Cooperative Agreements, SM00-005)

• Application Deadline: The receipt date is May 23, 2000.

• Purpose: The Substance Abuse and Mental Health Services Administration's (SAMHSA) Center for Mental Health Services (CMHS) announces the availability of funds for community organizations to promote prevention of youth violence and suicide and to enhance healthy youth development. The goals of this cooperative agreement are (1) to build community-wide understanding of youth violence/suicide, (2) to build real and sustainable community-wide, intensive collaborations to address this public health crisis, and (3) to implement and sustain evidence-based youth and family service programs. There will be two Phases in this 2-year program: Phase 1 Community Collaboration Phase, and Phase 2, Pilot Implementation Phase. In Phase 1, grantees will develop intensive community wide collaboration to address youth violence prevention/suicide proactively. In Phase 2, grantees will pilot the chosen evidence-based youth violence/suicide prevention programs. This GFA is a revision of the prior CMHS No. SM99-009, School Action Grants.

• Eligible Applicants: Applications may be submitted by domestic non-governmental non-profit and for profit entities; public or private educational systems, institutions, and agencies; Tribal government units and organizations; and community-based organizations such as advocacy organizations, community-based health, mental health and social service organizations, parents and teachers associations, consumer and family groups, and minority serving organizations.

This program is related to the Community Prevention Grants (GFA SM00-004) in that similar activities could be supported under that grant or this cooperative agreement; however, the Community Prevention Grants offer support exclusively to State, Tribes, and their political subdivisions. State and local governmental units are not eligible for this cooperative agreement program with the following exceptions: educational units are eligible to apply for both youth violence and suicide prevention projects and governmental community mental health organizations can serve as applicant organizations for suicide prevention, but not youth violence prevention projects.

• Amount: It is expected that $4.10 million will be available in FY2000. Of this $4.10 million, four grants totaling up to $600,000 will be awarded to organizations proposing programs on the prevention of youth suicide.

• Period of Support: Support may be requested for a period of up to 2 years.

• Catalog of Federal Domestic Assistance Number: 93.230.

• Program Contact: For questions concerning program issues, contact:

Tiffany Ho, Division of Program Development, Special Populations and Projects, Center for Mental Health Services, Substance Abuse and Mental Health Services Administration, Room 17C-26, 5600 Fishers Lane, Rockville, MD 20857, (301) 443-2892.

or

Malcolm Gordon, Special Programs Development Branch, Center for Mental Health Services, Substance Abuse and Mental Health Services Administration, Room 17C-05, 5600 Fishers Lane, Rockville, MD 20857, (301) 443-2957.

For questions regarding grants management issues, contact: Steve Hudak, Grants Management Officer, Division of Grants Management, OPS, Substance Abuse and Mental Health Services Administration, Room 15C-05, 5600 Fishers Lane, Rockville, Maryland 20857, (301) 443-4456.

• Application kits are available from: National Mental Health Services, Knowledge Exchange Network (KEN), P.O. Box 42490, Washington, DC 20015, Telephone: 1-800-789-2647, TTY: (301) 443-9006, Fax: (301) 984-8796.

5. Public Health System Reporting Requirements

The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements.

Application guidance materials will specify if a particular FY 2000 activity is subject to the Public Health System Reporting Requirements.

6. PHS Non-use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

7. Executive Order 12372

Applications submitted in response to the FY 2000 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: February 29, 2000.
Richard Kopanda,
Executive Officer, SAMHSA.

[FR Doc. 00-5396 Filed 3-1-00; 4:26 pm]

BILLING CODE 4162-20-U